SMALL BUSINESS ADMINISTRATION

[Disaster Declaration #13985]

Colorado Disaster #CO-00068 Declaration of Economic Injury

AGENCY: U.S. Small Business Administration.

ACTION: Amendment 1.

SUMMARY: This is an amendment of the Economic Injury Disaster Loan (EIDL) declaration for the State of COLORADO, dated 05/14/2014.

Incident: Red Mountain Pass Rockslide.

Incident Period: 01/13/2014 and continuing through 06/12/2014.

Effective Date: 11/26/2014.

EIDL Loan Application Deadline Date: 02/16/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Administrative EIDL disaster declaration for the State of Colorado, dated 05/14/2014 is hereby amended to establish the incident period for this disaster as beginning 01/13/2014 and continuing through 06/12/2014.

All other information in the original declaration remains unchanged.

(Catalog of Federal Domestic Assistance Number 59002)

Dated: November 26, 2014.
Maria Contreras-Sweet,
Administrator.

[FR Doc. 2014-28514 Filed 12-4-14; 8:45 am]

BILLING CODE 8025-01-P